DEPARTMENT OF ENERGY

Federal Energy Regulatory Commission

Notice of Technical Conference

| Docket Nos.
Developments in Natural Gas Index Liquidity and Transparency | AD17-12-000
Price Discovery in Natural Gas and Electric Markets | PL03-3-000
Natural Gas Price Formation | AD03-7-000

Take notice that on June 29, 2017, the staff of the Federal Energy Regulatory Commission (Commission) will hold a technical conference on Developments in Natural Gas Index Liquidity and Transparency from 9:00 a.m. to 4:30 p.m. (EDT), in the Commission Meeting Room at 888 First Street NE., Washington, DC 20426. A detailed agenda will be issued and published on the Calendar of Events on the Commission's Web site ¹ prior to the conference. Commission members may participate in the conference.

¹ www.ferc.gov.

The purpose of this technical conference is to understand the state of liquidity in the physical natural gas markets, to explore current trends in physical natural gas trading and price reporting and how the use of natural gas indices have evolved over time, to obtain industry's views on the current level of confidence in natural gas indices and price formation, and finally, to consider whether there is a need to improve natural gas market liquidity and price reporting and, if so, how. Staff plans to discuss these issues with buyers and sellers of physical natural gas, natural gas pipelines, ISO/RTOs or public utilities that use natural gas indices in their tariffs, market monitors, index developers, energy exchanges, academics and market experts. Staff recognizes that a number of factors influence market liquidity, and encourages the participation of interested parties to speak about price discovery, liquidity evaluation, and market activity measurement in the physical natural gas markets, among other things influencing the natural gas markets.

All attendees are encouraged to preregister at https://www.ferc.gov/whats-new/registration/06-29-17-form.asp. There is no fee to register or attend.

The technical conference will be transcribed. Transcripts will be available from Ace Reporting Company and may be purchased online at www.acefederal.com, or by phone at (202) 347-3700. In addition, there will be a free webcast of the conference. The webcast will allow persons to listen, but not participate, and will be accessible at www.ferc.gov Calendar of Events. The Capitol Connection provides technical support for the webcast and offers the option of listening to the technical conference via phone-bridge for a fee. If you have any questions, visit www.CapitolConnection.org or call (703) 993-3100.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conference, please contact:

Sarah McKinley (Logistics), Federal Energy Regulatory Commission, 888 First Street NE., Washington, DC 20426, (202) 502-8368, Sarah.Mckinley@ferc.gov

Eric Primosch (Technical), Federal Energy Regulatory Commission, 888 First Street NE., Washington, DC 20426, (202) 502-6483, Eric.Primosch@ferc.gov

Omar Bustami (Legal), Federal Energy Regulatory Commission, 888 First Street NE., Washington, DC 20426, (202) 502-6214, Omar.Bustami@ferc.gov

Dated: May 10, 2017.
Kimberly D. Bose,
Secretary.

[FR Doc. 2017-09938 Filed 5-16-17; 8:45 am]

BILLING CODE 6717-01-P